DEPARTMENT OF HOMELAND SECURITY

Office of the Secretary

Privacy Act of 1974; System of Records

AGENCY: Privacy Office, DHS.

ACTION: Notice of removal of one Privacy Act system of records notice.

SUMMARY: In accordance with the Privacy Act of 1974, the Department of Homeland Security is giving notice that it will remove one system of records notice from its inventory of record systems because the United States Coast Guard no longer requires the system. The obsolete system is DOT/CG 632 Uniformed Services Identification and Privilege Card Record System (April 11, 2000).

DATES: Effective Date: January 12, 2009.

FOR FURTHER INFORMATION CONTACT: Hugo Teufel III, Chief Privacy Officer, Department of Homeland Security, Washington, DC 20528, by telephone (703) 235-0780 or facsimile 1-866-466-5370.

SUPPLEMENTARY INFORMATION: Pursuant to the provisions of the Privacy Act of 1974, 5 U.S.C. 552a, and as part of its ongoing integration and management efforts, the Department of Homeland Security (DHS) is removing one United States Coast Guard (USCG) system of records notice from its inventory of record systems.

DHS inherited this record system upon its creation in January of 2003. Upon review of its inventory of systems of records, DHS has determined it no longer needs or uses this system of records and is retiring the following: DOT/CG 632 Uniformed Services Identification and Privilege Card Record System (65 FR 19475 April 11, 2000).

DOT/CG 632 Uniformed Services Identification and Privilege Card Record System was originally established to determine if an applicant's eligibility for an uniformed services identification and privilege card.

Eliminating this system of records notice will have no adverse impacts on individuals, but will promote the overall streamlining and management of DHS Privacy Act record systems.

Dated: December 2, 2008.
Hugo Teufel III,
Chief Privacy Officer, Department of Homeland Security.

[FR Doc. E8-29262 Filed 12-10-08; 8:45 am]

BILLING CODE 4410-10-P